DEPARTMENT OF AGRICULTURE

Forest Service

White Pine-Nye Resource Advisory Committee

AGENCY: Forest Service, USDA.

ACTION: Notice of two meetings.

SUMMARY: The White Pine-Nye Resource Advisory Committee will meet in Eureka, Nevada. The Committee is authorized under the Secure Rural Schools and Community Self-Determination Act of 2000 (the Act) (Pub. L. 110-343) and operates in compliance with the Federal Advisory Committee Act (FACA) (Pub. L. 92-463). The purpose of the Committee is to improve collaborative relationships and to provide advice and recommendations to the Forest Service concerning projects and funding consistent with Title II of the Act. The meetings are open to the public. The purpose of the meetings is to review approved projects and determine the extent of funding.

DATES: The meetings will be held Wednesday, June 26, 2013, at 9:00 a.m. (PST) and Monday, August 19, 2013, at 9:00 a.m. (PST).

ADDRESSES: The meetings will be held at the Eureka County Annex, 701 S. Main Street, Eureka, Nevada 89316. Written comments may be submitted as described under Supplementary Information. All comments, including names and addresses when provided, are placed in the record and are available for public inspection and copying. The public may inspect comments received at Tonopah Ranger District Office, 1400 S. Erie Main Street, Tonopah, Nevada. Please call ahead to 775-482-6286 to facilitate entry into the building to view comments.

FOR FURTHER INFORMATION CONTACT: Linda Bernardi, RAC Coordinator, Tonopah Ranger District, 1400 S. Erie Main Street, P.O. Box 3940, Tonopah, Nevada 89049, 775-482-6286, email lebernardi@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Review and approve previous meeting's minutes and business expenses. Review previously approved projects and determine availability and extent of funding, and public comment. More information including the full agenda may be previewed at: https://fsplaces.fs.fed.us/fsfiles/unit/wo/secure_rural_schools.nsf. Anyone who would like to bring related matters to the attention of the committee may file written statements with the committee staff before or after the meeting. The agenda will include time for people to make oral statements of three minutes or less. Individuals wishing to make an oral statement should request in writing by Tuesday, June 18, 2013 to be scheduled on the agenda. Written comments and requests for time for oral comments must be sent to Tonopah Ranger District, P.O. Box 3940, Tonopah, Nevada 89049, or by email to lebernardi@fs.fed.us, or via facsimile to 775-482-3053. A summary of the meeting will be posted at https://fsplaces.fs.fed.us/fsfiles/unit/wo/secure_rural_schools.nsf, within 21 days of the meeting.

Meeting Accommodations: If you require sign language interpreting, assistive listening devices or other reasonable accommodation please request this in advance of the meeting by contacting the person listed in the section titled, FOR FURTHER INFORMATION CONTACT. All reasonable accommodation requests are managed on a case-by-case basis.

Dated: May 16, 2013.
William A. Dunkelberger,
Forest Supervisor.

[FR Doc. 2013-12263 Filed 5-22-13; 8:45 am]

BILLING CODE 3410-11-P